INTERNATIONAL TRADE COMMISSION

[Investigation Nos. 701-TA-710-711 and 731-TA-1673-1674 (Preliminary)]

2,4-Dichlorophenoxyacetic Acid (“2,4-D”) From China and India Determinations

On the basis of the record ¹ developed in the subject investigations, the United States International Trade Commission (“Commission”) determines, pursuant to the Tariff Act of 1930 (“the Act”), that there is a reasonable indication that an industry in the United States is materially injured by reason of imports of 2,4-Dichlorophenoxyacetic acid (“2,4-D”) from China and India, provided for in subheading 2918.99.20 of the Harmonized Tariff Schedule of the United States, that are alleged to be sold in the United States at less than fair value (“LTFV”) and imports of the subject merchandise from China and India that are alleged to be subsidized by the governments of China and India.²

¹ The record is defined in § 207.2(f) of the Commission's Rules of Practice and Procedure (19 CFR 207.2(f)).

² 89 FR 34200 and 34205 (April 30, 2024).

Commencement of Final Phase Investigations

Pursuant to section 207.18 of the Commission's rules, the Commission also gives notice of the commencement of the final phase of its investigations. The Commission will issue a final phase notice of scheduling, which will be published in the Federal Register as provided in § 207.21 of the Commission's rules, upon notice from the U.S. Department of Commerce (“Commerce”) of affirmative preliminary determinations in the investigations under §§ 703(b) or 733(b) of the Act, or, if the preliminary determinations are negative, upon notice of affirmative final determinations in those investigations under §§ 705(a) or 735(a) of the Act. Parties that filed entries of appearance in the preliminary phase of the investigations need not enter a separate appearance for the final phase of the investigations. Any other party may file an entry of appearance for the final phase of the investigations after publication of the final phase notice of scheduling. Industrial users, and, if the merchandise under investigation is sold at the retail level, representative consumer organizations have the right to appear as parties in Commission antidumping and countervailing duty investigations. The Secretary will prepare a public service list containing the names and addresses of all persons, or their representatives, who are parties to the investigations. As provided in section 207.20 of the Commission's rules, the Director of the Office of Investigations will circulate draft questionnaires for the final phase of the investigations to parties to the investigations, placing copies on the Commission's Electronic Document Information System (EDIS, https://edis.usitc.gov), for comment.

Background

On March 14, 2024, Corteva Agriscience LLC (Indianapolis, Indiana) filed petitions with the Commission and Commerce, alleging that an industry in the United States is materially injured or threatened with material injury by reason of subsidized imports of 2,4-D from China and India and LTFV imports of 2,4-D from China and India. Accordingly, effective March 14, 2024, the Commission instituted countervailing duty investigation Nos. 701-TA-710-711 and antidumping duty investigation Nos. 731-TA-1673-1674 (Preliminary).

Notice of the institution of the Commission's investigations and of a public conference to be held in connection therewith was given by posting copies of the notice in the Office of the Secretary, U.S. International Trade Commission, Washington, DC, and by publishing the notice in the Federal Register on March 20, 2024 (89 FR 19876). The Commission conducted its conference on April 4, 2024. All persons who requested the opportunity were permitted to participate.

The Commission made these determinations pursuant to §§ 703(a) and 733(a) of the Act (19 U.S.C. 1671b(a) and 1673b(a)). It completed and filed its determinations in these investigations on May 20, 2024. The views of the Commission are contained in USITC Publication 5511 (May 2024), entitled 2,4-Dichlorophenoxyacetic Acid (“2,4-D”) from China and India: Investigation Nos. 701-TA-710-711 and 731-TA-1673-1674 (Preliminary).

By order of the Commission.
Issued: May 20, 2024.
Sharon Bellamy,
Supervisory Hearings and Information Officer.

[FR Doc. 2024-11409 Filed 5-23-24; 8:45 am]

BILLING CODE 7020-02-P